DEPARTMENT OF COMMERCE

National Oceanic and Atmospheric Administration

[I.D. 031402D]

New England Fishery Management Council; Public Meetings

AGENCY: National Marine Fisheries Service (NMFS), National Oceanic and Atmospheric Administration (NOAA), Commerce.

ACTION: Notice of public meetings.

SUMMARY: The New England Fishery Management Council (Council) is scheduling public meeting of its Groundfish and Monkfish Oversight Committees in April, 2002. Recommendations from these committees will be brought to the full Council for formal consideration and action, if appropriate.

DATES: These meetings will be held between April 9 and 11, 2002. See SUPPLEMENTARY INFORMATION for specific dates and times.

ADDRESSES: The meetings will be held in New London, CT and Warwick, RI. See SUPPLEMENTARY INFORMATION for specific locations.

Council address: New England Fishery Management Council, 50 Water Street, Newburyport, MA 01950.

FOR FURTHER INFORMATION CONTACT: Paul J. Howard, Executive Director, New England Fishery Management Council (978) 465-0492; telephone: (978) 465-0492.

SUPPLEMENTARY INFORMATION: Tuesday, April 9, 2002 at 9:30 a.m.-Groundfish Oversight Committee Meeting.

Location: Radisson Hotel, 35 Governor Winthrop Blvd, New London, CT 06320; telephone: (860) 443-7000.

The Groundfish Oversight Committee will continue development of Amendment 13 to the Northeast Multispecies Fishery Management Plan (FMP). Amendment 13 will end overfishing and establish rebuilding schedules for overfished stocks. At a meeting on February 27, 2002, the New England Council decided to develop groundfish management measures for five broad areas and one user group: inshore Gulf of Maine, offshore Gulf of Maine, eastern Georges Bank, western Georges Bank, Southern New England/Mid Atlantic, and recreational/charter/party. This meeting will focus on commercial fishing for groundfish in the Southern New England/Mid-Atlantic area, the boundaries for this area will be determined at the March 27, 2002 Groundfish Committee meeting. Interested parties will be consulted to identify management measures that will achieve specific biological, economic, and social objectives identified by the Council. Such measures may include, but are not limited to, trip or possession limits, changes to the days-at-sea program, year-round or seasonal closed areas, or gear changes. The committee will consider these suggested measures and will develop a recommendation that will be reviewed by the Council at a later date. After Council approval, the measures will be analyzed and included in a draft supplemental environmental impact statement. The committee may also consider alternatives to this area management approach if technical advice received at the March 19, 2002 Council meeting suggests it is not feasible.

Wednesday, April 10, 2002 at 9:30 a.m. and Tuesday, April 11, 2002 at 8:30 a.m.-Monkfish Oversight Committee Meeting.

Location: Radisson Airport Hotel Providence; 2081 Post Road, Warwick, RI 02886; telephone: (401) 739-3000.

The Committee will review information provided by the Advisory Panel, Plan Development Team and/or Councils’ staffs and continue development of Amendment 2 management alternatives. Measures that may be included or adjusted in Amendment 2 include, but are not limited to, permit qualification for vessels fishing south of 38° N, trip limits, days-at-sea allocations, closed areas, minimum fish size, minimum mesh size, and area-specific management programs for the Northern and Southern Fishery Management Areas, as well as for the offshore fishery in the Southern Area. Amendment 2 will also implement revisions to the monkfish overfishing definitions. Measures to be considered in Amendment 2 will be designed to achieve fishing mortality targets as well as to minimize bycatch, interactions with protected species and fishery impacts on essential fish habitat.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: March 15, 2002.
Richard W. Surdi,
Acting Director, Office of Sustainable Fisheries, National Marine Fisheries Service.

[FR Doc. 02-6749 Filed 3-19-02; 8:45 am]

BILLING CODE 3510-22-S